FEDERAL COMMUNICATIONS COMMISSION

47 CFR Part 54

[CC Docket No. 96-45; FCC 03-249]

Federal-State Joint Board on Universal Service

AGENCY: Federal Communications Commission.

ACTION: Final rule; announcement of effective date.

SUMMARY: This document announces the effective date of the amendments to our rules for modifying the high-cost universal service support mechanism for non-rural carriers and adopting measures to induce states to ensure reasonable comparability of rural and urban rates in areas served by non-rural carriers that contained information collection requirements.

DATES: Sections 54.316(a) and 54.316(c) published at 68 FR 69622, December 15, 2003, were approved by the Office of Management and Budget (OMB) and became effective on June 7, 2004. The OMB approval of the information collection requirements contained in these rules was announced in the Federal Register on June 24, 2004.

FOR FURTHER INFORMATION CONTACT: Theodore Burmeister, Attorney, or Jennifer Schneider, Attorney, Wireline Competition Bureau, Telecommunications Access Policy Division, (202) 418-7400.

SUPPLEMENTARY INFORMATION: On October 27, 2003, the Commission released an Order on Remand and Memorandum Opinion and Order in CC Docket No. 96-45 (Order). In this document, in response to the decision of the United States Court of Appeals for the Tenth Circuit and the recommendations of the Federal-State Joint Board on Universal Service, the Commission modified the high-cost universal service support mechanism for non-rural carriers and adopts measures to induce states to ensure reasonable comparability of rural and urban rates in areas served by non-rural carriers. A summary of the Order was published in the Federal Register. See 68 FR 69622, December 15, 2003. In that summary, the Commission stated that the modified rules would become effective 30 days after publication in the Federal Register except for § 54.316(a) and § 54.316(c) which would become effective upon approval by OMB of the associated information collection requirements. The rule amendments other than § 54.316(a) and § 54.316(c) became effective on January 14, 2004. On June 7, 2004, OMB approved the information collections associated with § 54.316(a) and § 54.316(c), and those sections, pursuant to the Order, became effective. See OMB No. 3060-0894. The OMB approval of the information collection requirements was announced in the Federal Register on June 24, 2004. See 69 FR 35345.

List of Subjects in 47 CFR Part 54

Reporting and recordkeeping requirements, Telecommunications, Telephone.

Federal Communications Commission.
Marlene H. Dortch,
Secretary.

[FR Doc. 04-16740 Filed 7-21-04; 8:45 am]

BILLING CODE 6712-01-P